RAILROAD RETIREMENT BOARD

20 CFR Part 335

RIN 3220-AB44

Sickness Benefits

AGENCY: Railroad Retirement Board.

ACTION: Final rule.

SUMMARY: The Railroad Retirement Board (Board) hereby amends its regulations under the Railroad Unemployment Insurance Act (RUIA) to permit a “nurse practitioner” to execute a statement of sickness in support of payments of sickness benefits under the RUIA. The Board does not currently accept statements executed by a nurse practitioner, which in some cases may delay payment of benefits.

EFFECTIVE DATE: This final rule is effective November 6, 2000.

ADDRESSES: Secretary to the Board, Railroad Retirement Board, 844 North Rush Street, Chicago, Illinois 60611.

FOR FURTHER INFORMATION CONTACT: Michael C. Litt, General Attorney, (312) 751-4929, TDD (312) 751-4701.

SUPPLEMENTARY INFORMATION: Section 335.2(a)(2) of the Board's regulations provides that in order to be entitled to sickness benefits under the RUIA, a claimant must provide a “statement of sickness”. Section 335.3(a) of this part lists the individuals from whom the Board will accept a statement of sickness. That list does not currently include nurse practitioners. Nurse practitioners offer health care to people throughout the United States. Their practice emphasizes health promotion and maintenance, disease prevention, and the diagnosis and management of acute and chronic diseases. Nurse practitioners are registered nurses with advanced education and clinical expertise that qualifies them to diagnose and treat illnesses and injuries. Under current regulations, the Board does not accept a statement of sickness or supplemental statement of sickness from a nurse practitioner. A claimant who submits a statement of sickness signed by a nurse practitioner is informed that the statement may not be accepted and is required to get a new one signed by an individual listed in § 335.3(a). This is administratively costly and delays the payment of sickness benefits. Thus, the Board is adding “nurse practitioner” to the list of individuals from whom it will accept a statement of sickness.

The Board published this rule as a proposed rule on May 5, 2000 (65 FR 26161), and invited comments by July 5, 2000. No comments were received.

The Board, with the concurrence of the Office of Management and Budget, has determined that this is not a significant regulatory action for purposes of Executive Order 12866. Therefore, no regulatory analysis is required. The information collections contemplated by this part have been approved by the Office of Management and Budget under control number 3220-0039.

List of Subjects in 20 CFR Part 335

Railroad employees, Railroad unemployment insurance, Reporting and recordkeeping requirements.

For the reasons set out in the preamble, the Railroad Retirement Board amends title 20, chapter II of the Code of Federal Regulations as follows:

PART 335—SICKNESS BENEFITS

1. The authority citation for part 335 continues to read as follows:

Authority: 45 U.S.C. 362(i) and 362(l).

2. Section 335.3(a) is amended as follows:

(a) remove “or” at the end of paragraph (a)(9),

(b) remove the period and add “; or” at the end of paragraph (a)(10), and

(c) add a new paragraph (a)(11) to read as follows:

§ 335.3 Execution of statement of sickness and supplemental doctor's statement.

(a) * * *

(11) A nurse practitioner.

* * * * *

Dated: October 27, 2000.
By Authority of the Board,
Beatrice Ezerski,
For the Board, Secretary to the Board.

[FR Doc. 00-28316 Filed 11-3-00; 8:45 am]

BILLING CODE 7905-01-P